DEPARTMENT OF STATE

[Public Notice: 9047]

Notice of Receipt of NuStar Logistics, L.P., for a Presidential Permit To Construct, Connect, Operate, and Maintain Pipeline Facilities on the Border of the United States and Mexico

AGENCY: Department of State.

ACTION: Notice.

SUMMARY: Notice is hereby given that the Department of State (DOS) has received an application from NuStar Logistics, L.P. (“NuStar”) for a Presidential Permit authorizing the construction, connection, operation, and maintenance of pipeline facilities for the export and import of petroleum products, including liquefied petroleum gas (“LPG”) and natural gas liquids (“NGLs”). If the application is approved, the proposed facilities will transport petroleum products across the border between the NuStar terminal near Edinburg, Texas and the Petroleos Mexicanos (“PEMEX”) Burgos Gas Plant near Reynosa, Tamaulipas, Mexico, crossing under the Rio Grande River.

NuStar is a subsidiary of NuStar Energy L.P., a publicly traded master limited partnership based in San Antonio, Texas, and is one of the largest independent liquids terminal and pipeline operators in the United States. NuStar currently has 8,643 miles of pipeline and 82 terminal and storage facilities in five countries that store and distribute crude oil, refined products and specialty liquids. Its system has approximately 91 million barrels of storage capacity.

Under E.O. 13337, the Secretary of State is designated and empowered to receive all applications for Presidential Permits for the construction, connection, operation, or maintenance at the borders of the United States, of facilities for the exportation or importation of liquid petroleum, petroleum products, or other non-gaseous fuels to or from a foreign country. The Department of State has the responsibility to determine whether issuance of a new Presidential Permit for construction, connection, operation, and maintenance of a new pipeline at the Burgos facility would serve the U.S. national interest.

The Department anticipates conducting an environmental review consistent with the National Environmental Policy Act of 1969. The Department will provide more information on the review process in a future Federal Register notice.

NuStar's application is available at: http://www.state.gov/e/enr/applicant/applicants/index.htm.

FOR FURTHER INFORMATION CONTACT: Acting Director, Energy Resources Bureau, Energy Diplomacy (ENR/EDP/EWA), United States Department of State, 2201 C St. NW., Suite 4843, Washington, DC 20520.

Dated: February 20, 2015.
Chris Davy,
Acting Director, Energy Resources Bureau, Energy Diplomacy (ENR/EDP/EWA), Bureau of Energy Resources, U.S. Department of State.

[FR Doc. 2015-04135 Filed 2-26-15; 8:45 am]

BILLING CODE 4710-AE-P